DEPARTMENT OF THE INTERIOR

Bureau Of Land Management

[LLNMF00000.L13100000.PP0000 18X LXSSG0860000]

Notice of Public Meeting, Farmington District Resource Advisory Council, New Mexico

AGENCY: Bureau of Land Management, Interior.

ACTION: Notice of public meeting.

SUMMARY: In accordance with the Federal Land Policy and Management Act (FLPMA) of 1976 and the Federal Advisory Committee Act (FACA) of 1972, and the U.S. Department of the Interior, Bureau of Land Management (BLM), the Farmington District Resource Advisory Council (RAC) will meet as indicated below.

DATES: The Farmington District RAC will hold a public meeting on Tuesday, January 30, 2018, from 8:00 a.m. to 4:00 p.m., and a field trip on Wednesday, January 31, 2018, from 8:00 a.m. to 12:00 p.m.

ADDRESSES: The Farmington District RAC will meet at the BLM Farmington District Office, 6251 College Blvd., Suite A, Farmington, NM 87402. The field trip participants will depart from the BLM Farmington District Office.

FOR FURTHER INFORMATION CONTACT: Zach Stone, Public Affairs Specialist, BLM Farmington District Office, 6251 College Blvd., Suite A, Farmington, NM 87402, (505) 564-7677, or zstone@blm.gov. Persons who use a telecommunications device for the deaf (TDD) may call the Federal Relay Service (FRS) at (800) 877-8339. The FRS is available 24 hours a day, 7 days a week, to leave a message or question with Mr. Stone. You will receive a reply during normal business hours.

SUPPLEMENTARY INFORMATION: The Farmington District RAC consists of 10 members chartered and appointed by the Secretary of the Interior. Their diverse perspectives are represented in commodity, conservation, and general interests. The RAC provides advice to BLM resource managers regarding management plans and proposed resource actions on public land in the BLM's Farmington District. Both the field trip and meeting are open to the public. However, the public is required to provide its own transportation for the field trip.

Agenda items for the meeting include an introduction of new RAC members; the election of a new RAC Chair; an updates on the Farmington Resources Management Plan Amendment and the land use planning in the Taos Field Office; updates on the Taos general recreation plan and the Farmington Glade Run recreation implementation plan; an overview of fire and fuel plan treatments for the Farmington District; an overview of Farmington District grazing permits; a presentation on Section 106 of the National Historic Preservation Act; and a presentation of BLM's role in the Four Corners Air Quality Group. Any other matters that may reasonably come before the Farmington District RAC may also be addressed.

On January 31, the RAC will participate in a field trip to Chockcherry Canyon in the Glade Run Recreation Area. More information is available at https://www.blm.gov/get-involved/resource-advisory-council/near-you/new-mexico/farmington-district-rac.

Public Disclosure of Comments: The January 30, 2018, meeting will include a public comment period which will begin at 3:00 p.m. and continue to 3:30 p.m. Depending on the number of persons wishing to comment and time available, the amount of time for individual oral comments may be limited. The public may also submit written comments to Zach Stone, Farmington District, New Mexico, 6251 College Blvd., Suite A, Farmington, NM 87402; or by telephone (505) 564-7677, no later than January 29, 2018, to be made available to the RAC at the January 30, 2018, meeting. All written comments received prior to the meeting will be provided to the council members.

Before including your address, phone number, email address, or other personal identifying information in your comments, please be aware that your entire comment, including your personal identifying information, may be made publicly available at any time. While you can ask us in your comment to withhold your personal identifying information from public review, we cannot guarantee that we will be able to do so.

Individuals who plan to attend and need special assistance, such as sign language interpretation, tour transportation or other reasonable accommodations, should contact the BLM as provided above.

Authority: 43 CFR 1784.4-2.

David M. Herrell,
Acting Deputy State Director, Lands and Resources.

[FR Doc. 2017-25667 Filed 11-27-17; 8:45 am]

BILLING CODE 4310-FB-P